ENVIRONMENTAL PROTECTION AGENCY

[FRL-9970-62-OW]

Information Session; Implementation of the Water Infrastructure Finance and Innovation Act of 2014

AGENCY: Environmental Protection Agency (EPA).

ACTION: Notice.

SUMMARY: The Environmental Protection Agency is announcing plans to hold an information session on January 17, 2018 in Washington, DC. The purpose the session is to provide prospective borrowers with a better understanding of the Water Infrastructure Finance and Innovation Act (WIFIA) program requirements and application process.

DATES: The session in Washington, DC will be held on January 17, 2018 from 9:00 a.m.-3:00 p.m. (MT).

ADDRESSES: The session in Washington, DC will be held at: U.S. EPA Headquarters, William Jefferson Clinton East Building, 1201 Constitution Avenue NW., Washington, DC 20004.

To Register: Registration information is available at https://www.epa.gov/wifia.

FOR FURTHER INFORMATION CONTACT: For further information about this notice, including registration information, contact Karen Fligger, EPA Headquarters, Office of Water, Office of Wastewater Management at tel.: 202-564-2992; or email: WIFIA@epa.gov.

Members of the public are invited to participate in the session as capacity allows.

SUPPLEMENTARY INFORMATION: Under WIFIA (33 U.S.C. 3901 et seq.), EPA can provide long-term, low-cost supplemental loans and loan guarantees for regionally and nationally significant water infrastructure projects. During the information session, EPA will provide an overview of the program's statutory and eligibility requirements, application and selection process, and creditworthiness assessment. It will also explain the financial benefits of WIFIA credit assistance and provide tips for completing the application materials. The intended audience is prospective borrowers including municipal entities, corporations, partnerships, and State Revolving Fund programs, as well as the private and non-governmental organizations that support prospective borrowers.

Authority: Water Infrastructure Finance and Innovation Act, 33 U.S.C. 3901 et seq.

Dated: November 2, 2017.
Andrew D. Sawyers,
Director, Office of Wastewater Management.

[FR Doc. 2017-24639 Filed 11-13-17; 8:45 am]

BILLING CODE 6560-50-P